DEPARTMENT OF JUSTICE

Bureau of Alcohol, Tobacco, Firearms and Explosives

[OMB 1140-0056]

Agency Information Collection Activities; Proposed eCollection of eComments Requested; Special Agent Medical Preplacement—ATF Form 2300.10

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The information collection (IC) OMB 1140-0056 (Special Agent Medical Preplacement—ATF Form 2300.10) is being revised due to an increase in number of respondents and total public burden hours. Additionally, there is a decrease in the total cost burden since the last renewal in 2020. The proposed information collection is also being published to obtain comments from the public and affected agencies.

DATES: Comments are encouraged and will be accepted for 60 days until June 16, 2023.

FOR FURTHER INFORMATION CONTACT: If you have additional comments regarding the estimated public burden or associated response time, suggestions, or need a copy of the proposed information collection instrument with instructions, or additional information, contact: Dawn Cheeks, Program Analyst, Workforce Wellness and Services Division, by mail at 99 New York Avenue NE, Washington, DC 20226, email at dawn.cheeks@atf.gov, or telephone at 202-412-1770.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): Revision of a currently approved collection.

(2) The Title of the Form/Collection: Special Agent Medical Preplacement.

(3) The agency form number, if any, and the applicable component of the Department sponsoring the collection:

Form number (if applicable): ATF Form 2300.10.

Component: Bureau of Alcohol, Tobacco, Firearms and Explosives, U.S. Department of Justice.

(4) Affected public who will be asked or required to respond, as well as a brief abstract:

Primary: Individuals or households.

Other (if applicable): Federal Government.

Abstract: ATF E-Form 2300.10, Special Agent Medical Preplacement form collects specific identifiable data, these elements are name, address, telephone, social security number and certain medical data. The medical data on the form must be collected in order to determine whether or not a candidate is qualified medically for the position. The information will be initially used to make recommendation on either hiring or not hiring a candidate for the criminal investigator (special agent) position.

(5) An estimate of the total number of respondents and the amount of time estimated for an average respondent to respond: An estimated 380 respondents will utilize the form annually, and it will take each respondent approximately 45 minutes to complete their responses.

(6) An estimate of the total public burden (in hours) associated with the collection: The estimated annual public burden associated with this collection is 285 hours, which is equal to 380 (total respondents) * 1 (# of response per respondent) * .75 (45 minutes).

(7) An Explanation of the Change in Estimates: The adjustments associated with this collection include an increase in both the number of respondents by 92 and total burden hours by 69 since the last renewal in 2020. There has also been a decrease in the total cost burden from $3,600.00 to $0.00 due to the form being transmitted electronically since the last renewal in 2020.

If additional information is required contact: John Carlson, Department Clearance Officer, Policy and Planning Staff, Office of the Chief Information Officer, United States Department of Justice, Justice Management Division, Two Constitution Square, 145 N Street NE, Mail Stop 3.E-206, Washington, DC 20530.

Dated: April 11, 2023.
John Carlson,
Department Clearance Officer, Policy and Planning Staff, U.S. Department of Justice.

[FR Doc. 2023-07978 Filed 4-14-23; 8:45 am]

BILLING CODE 4410-FY-P